DEPARTMENT OF HEALTH AND HUMAN SERVICES

Centers for Disease Control and Prevention

Board of Scientific Counselors, National Center for Injury Prevention and Control; Correction

Notice is hereby given of a change in the meeting of the Board of Scientific Counselors, National Center for Injury Prevention and Control; February 16, 2021, 10:00 a.m. to 4:15 p.m., EST which was published in the Federal Register on January 8, 2021, Volume 86, Number 5, page 1502.

The dates and addresses should read as follows:

DATES: The meeting will be held on February 16, 2021, from 10:00 a.m.-4:30 p.m., EST.

ADDRESSES: Zoom Virtual Meeting. If you would like to attend the virtual meeting, please pre-register by accessing the link at https://dceproductions.zoom.us/webinar/register/WN_AQ70-aWpTqKvPX9Ftap_UA. Instructions to access the Zoom virtual meeting will be provided in the link following your registration.

Meeting Information: There will be a public comment period at the end of the meeting; from 3:45 p.m.-4:15 p.m. The public is encouraged to register to provide public comment using the registration form available at the link provided: https://www.surveymonkey.com/r/cbyh878.

Individuals registered to provide public comment will be called upon first to speak based on the order of registration, followed by others from the public. All public comments will be limited to two (2) minutes per speaker.

Written comments may also be submitted for the meeting record and must be received on or before February 23, 2021; ncipcbsc@cdc.gov.

FOR FURTHER INFORMATION CONTACT: Gwendolyn H. Cattledge, Ph.D., M.S.E.H., Deputy Associate Director for Science, NCIPC, CDC, 4770 Buford Highway NE, Mailstop S-106-9, Atlanta, Georgia 30341, Telephone: (770) 488-1430, Email: ncipcbsc@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-02849 Filed 2-11-21; 8:45 am]

BILLING CODE 4163-18-P